ENVIRONMENTAL PROTECTION AGENCY

[EPA-HQ-OA-2010-0757; FRL-9914-38-OEI]

Information Collection Request Submitted to OMB for Review and Approval; Comment Request; Confidential Financial Disclosure Form for Special Government Employees Serving on Federal Advisory Committees at the U.S. Environmental Protection Agency (Renewal)

AGENCY: Environmental Protection Agency (EPA).

ACTION: Notice.

SUMMARY: The Environmental Protection Agency has submitted an information collection request (ICR), “Confidential Financial Disclosure Form for Special Government Employees Serving on Federal Advisory Committees at the U.S. Environmental Protection Agency (Renewal)” (EPA ICR No. 2260.05, OMB Control No. 2090-0029), to the Office of Management and Budget (OMB) for review and approval in accordance with the Paperwork Reduction Act (44 U.S.C. 3501 et seq.). This is a proposed extension of the ICR, which is currently approved through August 31, 2014. Public comments were previously requested via the Federal Register (79 FR 35751) on June 24, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 26, 2014.

ADDRESSES: Submit your comments, referencing Docket ID Number EPA-HQ-OA-2010-0757, to (1) EPA online using www.regulations.gov (our preferred method), by email to oei.docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Megan Moreau, Office of Diversity, Advisory Committee Management and Outreach, Office of Administration and Resources Management, Mail Code 1601M, Environmental Protection Agency, 1200 Pennsylvania Ave. NW., Washington, DC 20460; telephone number: 202-564-5320; fax number: 202-564-8129; email address: moreau.megan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: The purpose of this information collection request is to assist the EPA in selecting federal advisory committee members who will be appointed as Special Government Employees (SGEs), mostly to the EPA's scientific and technical committees. To select SGE members as efficiently and cost effectively as possible, the Agency needs to evaluate potential conflicts of interest before a candidate is hired as an SGE and appointed as a member to a committee by the EPA's Administrator or Deputy Administrator. Agency officials developed the “Confidential Financial Disclosure Form for Special Government Employees Serving on Federal Advisory Committees at the U.S. Environmental Protection Agency,” also referred to as Form 3110-48, for greater inclusion of information to discover any potential conflicts of interest as recommended by the Government Accountability Office.

Form Numbers: EPA Form 3110-48.

Respondents/affected entities: Individuals.

Respondent's obligation to respond: Required in order to serve as a SGE on an EPA federal advisory committee (5 CFR 2634.903).

Estimated number of respondents: 250 (total).

Frequency of response: Annual.

Total estimated burden: 250 hours (per year). Burden is defined at 5 CFR 1320.03(b).

Total estimated cost: $22,000 (per year), includes $0 annualized capital or operation & maintenance costs.

Changes in the estimates: There is a decrease of 50 hours in the total estimated respondent burden compared with the ICR currently approved by OMB. This change is due to a decrease in the estimated number of respondents from 300 to 250.

Spencer Clark,
Acting Director, Collection Strategies Division.

[FR Doc. 2014-20286 Filed 8-26-14; 8:45 am]

BILLING CODE 6560-50-P